DEPARTMENT OF ENERGY

Federal Energy Regulatory Commission

Combined Notice of Filings #1

January 14, 2010.

Take notice that the Commission received the following electric corporate filings:

Docket Numbers: EC10-30-000.

Applicants: Trans Bay Cable LLC.

Description: Supplemental Filing to Application of Trans Bay Cable LLC.

Filed Date: 01/13/2010.

Accession Number: 20100113-5112.

Comment Date: 5 p.m. Eastern Time on Wednesday, January 27, 2010.

Take notice that the Commission received the following electric rate filings:

Docket Numbers: ER04-947-008; ER08-1297-004; ER02-2559-010; ER01-1071-015; ER02-669-009; ER02-2018-010; ER01-2074-009; ER08-1293-004; ER08-1294-004; ER05-222-006; ER00-2391-010; ER98-2494-013; ER97-3359-015; ER06-9-010; ER09-902-002; ER00-3068-009; ER05-487-006; ER04-127-007; ER03-34-014; ER98-3511-013; ER02-1903-011; ER99-2917-011; ER06-1261-009; ER03-179-008; ER03-1104-011; ER03-1105-011; ER03-1332-005; ER09-138-002; ER08-197-008; ER03-1333-006; ER03-1103-006; ER01-838-009; ER98-3563-013; ER98-3564-014; ER03-1025-005; ER02-2120-007; ER05-714-004; ER01-1972-009; ER98-2076-017; ER03-155-009; ER03-623-009; ER09-1462-001; ER08-250-005; ER07-1157-005; ER04-290-005; ER02-256-002; ER09-988-003; ER09-832-002; ER09-989-003; ER09-990-002; ER05-236-007; ER04-187-007; ER09-1297-001; ER07-174-009; ER08-1296-004; ER07-875-004; ER02-2166-009; ER09-901-002; ER01-2139-013; ER08-1300-004; ER09-900-002; ER03-1375-006.

Applicants: POSDEF Power Company, LP; Ashtabula Wind, LLC; Backbone Mountain Windpower LLC; Badger Windpower LLC; Bayswater Peaking Facility, LLC; Blythe Energy, LLC; Calhoun Power Company LLC; Crystal Lake Wind, LLC; Crystal Lake Wind II, LLC; Diablo Winds, LLC; Doswell Limited Partnership; ESI Vansycle Partners LP; Florida Power & Light Company; FPL Energy Burleigh County Wind, LLC; FPL Energy Cape, LLC; FPL Energy Cabazon Wind, LLC; FPL Energy Green Power Wind, LLC; FPL Energy Hancock County Wind, LLC; FPLE Maine Hydro, LLC; FPL Energy Marcus Hook, L.P.; FPL Energy MH50, LP; FPL Energy Mower County, LLC; FPL Energy New Mexico Wind, LLC; FPL Energy North Dakota Wind, LLC; FPL Energy North Dakota Wind, LLC; FPL Energy Oklahoma Wind, LLC; FPL Energy Oliver Wind I, LLC; FPL Energy Oliver Wind II, LLC; FPL Energy Sooner Wind, LLC; FPL Energy South Dakota Wind, LLC; FPL Energy Vansycle LLC; FPL Energy Wyman, LLC; FPL Energy Wyman IV LLC; FPL Energy Wyoming, LLC; FPLE Rhode Island State Energy, LP; Gexa Energy LLC; Gray County Wind Energy, LLC; Hawkeye Power Partners LLC; High Winds, LLC ; Jamaica Bay Peaking Facility, LLC; Lake Benton Power Partners II, LLC; Langdon Wind, LLC; Logan Wind Energy LLC; Meyersdale Windpower, LLC; Mill Run Windpower, LLC; NextEra Energy Power Marketing, LLC; NextEra Energy Duane Arnold, LLC; NextEra Energy Point Beach, LLC; NextEra Energy SeaBrook, LLC; Northeast Energy Associates, LP; North Jersey Energy Associates, a L.P.; Northern Colorado Wind Energy, LLC; Osceola Windpower, LLC; Osceola Windpower II, LLC; Peetz Table Wind Energy, LLC; Pennsylvania Windfarms, Inc.; Sky River LLC; Somerset Windpower, LLC; Story Wind, LLC; Victory Garden Phase IV, LLC; Waymart Wind Farm L.P.

Description: Amendment to October 30, 2009 Site Control Quarterly Filing of FPL Group Companies.

Filed Date: 01/13/2010.

Accession Number: 20100113-5086.

Comment Date: 5 p.m. Eastern Time on Wednesday, February 03, 2010.

Docket Numbers: ER08-1360-002.

Applicants: PacifiCorp.

Description: PacifiCorp submits a Notice of Cancellation for Rate Schedule FERC 279 with Utah Municipal Power Agency.

Filed Date: 01/13/2010.

Accession Number: 20100113-0206.

Comment Date: 5 p.m. Eastern Time on Wednesday, February 03, 2010.

Docket Numbers: ER10-385-001.

Applicants: Castleton Energy Services, LLC.

Description: Castleton Energy Services, LLC submits amended application for market based rate authority, associated waivers, blanket approvals, notification of price reporting status and request for category 1 seller determination.

Filed Date: 01/13/2010.

Accession Number: 20100113-0207.

Comment Date: 5 p.m. Eastern Time on Wednesday, February 03, 2010.

Docket Numbers: ER10-425-001.

Applicants: Oceanside Power LLC.

Description: Oceanside Power LLC submits Amended Petition for Acceptance of Initial Tariff, Waivers and Blanket Authority.

Filed Date: 01/13/2010.

Accession Number: 20100113-0212.

Comment Date: 5 p.m. Eastern Time on Wednesday, February 03, 2010

Docket Numbers: ER10-461-000.

Applicants: Aquilon Power Ltd.

Description: Aquilon Power Ltd. submits an application for authorization to market-based sales of energy and capacity at wholesale.

Filed Date: 01/11/2010.

Accession Number: 20100111-0234.

Comment Date: 5 p.m. Eastern Time on Monday, February 01, 2010.

Docket Numbers: ER10-472-001.

Applicants: Katahdin Paper Company LLC.

Description: Katahdin Paper Company LLC submits a Notice of Cancellation re the market based rate authority.

Filed Date: 01/13/2010.

Accession Number: 20100113-0213.

Comment Date: 5 p.m. Eastern Time on Wednesday, February 03, 2010.

Docket Numbers: ER10-584-000.

Applicants: American Transmission Company LLC.

Description: American Transmission Company LLC submits an executed Distribution-Transmission Interconnection Agreement with Pardeeville Electric Utility.

Filed Date: 01/12/2010.

Accession Number: 20100112-0208.

Comment Date: 5 p.m. Eastern Time on Tuesday, February 02, 2010.

Docket Numbers: ER10-585-000.

Applicants: ColumbiaGrid.

Description: Avista Corporation submits amendments to the ColumbiaGrid Planning and Expansion Functional Agreement.

Filed Date: 01/12/2010.

Accession Number: 20100112-0204.

Comment Date: 5 p.m. Eastern Time on Tuesday, February 02, 2010.

Docket Numbers: ER10-586-000.

Applicants: Xcel Energy Services Inc.

Description: Xcel Energy Services Inc submits Comanche 3 Test Energy Letter Agreement as a supplement to Public Service Company of Colorado, Second Revised Rate Schedule 52.

Filed Date: 01/12/2010.

Accession Number: 20100112-0205.

Comment Date: 5 p.m. Eastern Time on Tuesday, February 02, 2010.

Docket Numbers: ER10-587-000.

Applicants: BNP Paribas Energy Trading GP.

Description: BNP Paribas Energy Trading GP submits a Tariff Amendment and Notice of Succession.

Filed Date: 01/12/2010.

Accession Number: 20100112-0206.

Comment Date: 5 p.m. Eastern Time on Tuesday, February 02, 2010.

Docket Numbers: ER10-588-000.

Applicants: ISO New England Inc., New England Power Pool

Description: ISO New England Inc et al. submits a new Section III.13.1.4.10 to market Rule 1.

Filed Date: 01/12/2010.

Accession Number: 20100112-0207.

Comment Date: 5 p.m. Eastern Time on Tuesday, February 02, 2010.

Docket Numbers: ER10-591-000.

Applicants: Oklahoma Gas and Electric Company.

Description: Oklahoma Gas and Electric Company submit Notice of Cancellation of an Amended and Restated Electric Service Agreement, First Revised Service Agreement No 93 with The Orlando Public Works Authority.

Filed Date: 01/13/2010.

Accession Number: 20100113-0214.

Comment Date: 5 p.m. Eastern Time on Wednesday, February 03, 2010.

Docket Numbers: ER10-592-000.

Applicants: Oklahoma Gas and Electric Company.

Description: Oklahoma Gas and Electric Company submit amended and restated electric service agreement.

Filed Date: 01/13/2010.

Accession Number: 20100113-0215.

Comment Date: 5 p.m. Eastern Time on Wednesday, February 03, 2010.

Take notice that the Commission received the following electric reliability filings:

Docket Numbers: RR07-14-006; RR08-6-006; RR09-9-002.

Applicants: North American Electric Reliability Corp.

Description: Partial Compliance Filing of the North American Electric Reliability Corp in Response to Paragraph 36 of October 15 2009 Order on 2010 Business Plans Nad Budgets.

Filed Date: 01/11/2010.

Accession Number: 20100111-5142.

Comment Date: 5 p.m. Eastern Time on Wednesday, February 10, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Deputy Secretary.

[FR Doc. 2010-1109 Filed 1-21-10; 8:45 am]

BILLING CODE 6717-01-P